NUCLEAR REGULATORY COMMISSION

[Docket Nos. 50-254 and 50-265]

Exelon Generation Company, LLC; Notice of Consideration of Issuance of Amendment to Facility Operating License, Proposed No Significant Hazards Consideration Determination, and Opportunity for a Hearing

The U.S. Nuclear Regulatory Commission (the Commission) is considering issuance of an amendment to Facility Operating License Nos. DPR-29 and DPR-30, issued to Exelon Generation Company, LLC (the licensee), for operation of the Quad Cities Nuclear Power Station (QCNPS), Units 1 and 2, located in Rock Island County, Illinois.

The proposed amendments would modify Technical Specification Surveillance Requirements to provide an alternative means of testing the Unit 1 main steam electromatic relief valves (ERVs), including those that provide the automatic depressurization and the low set relief functions, and provide an alternative means for testing the Units 1 and 2 dual function Target Rock safety/relief valves (S/RVs).

In its application for the exigent amendment, the licensee stated that on Unit 1, the 3A S/RV and 3C and 3D ERVs are currently leaking as evidenced by elevated tailpipe temperatures. The high tailpipe temperatures are indicative of steam leakage past the pilot valves or main valve seats. Leakage from ERVs and S/RVs is discharged to a point below the minimum water level in the suppression pool. Thus, the steam leakage can result in increasing suppression pool temperature. In addition, leakage past the pilot valves of S/RVs could cause an inadvertent opening of the main valve. Experience in the industry and at QCNPS indicates that manual actuation of main steam relief valves during plant operation can lead to increased seat leakage. As a result, the licensee plans as part of a maintenance outage previously scheduled for May 20, 2003, to replace the 3A S/RV. In addition, the 3C and 3D ERVs may also be replaced during the maintenance outage, pending results of additional testing to be performed at the start of the outage. This is being done based on the potential for steam leakage past the ERVs and S/RVs to result in increased suppression pool temperature. In addition, the alternative testing proposed for the 3A S/RV will reduce the potential for pilot valve leakage which can cause an inadvertent opening of the S/RV and impair the ability to re-close the valve. The need for this license amendment was identified shortly following an inadvertent opening of a relief valve on Unit 2 that occurred April 16, 2003, and the S/RV and ERV work was added to the scope of the planned maintenance outage on April 23, 2003. The licensee states that it has used its best efforts to make a timely application for the amendment. To support plant startup following the outage, efforts to minimize the potential for increased suppression pool temperature caused by leaking relief valves, and the desire to minimize an inadvertent opening of an S/RV, the licensee requested NRC approval of the proposed changes by May 29, 2003. This need date precludes use of the normal 30-day notice period. Accordingly, as described above, the basis for an exigent amendment request exists and the current situation could not have been avoided.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the proposed change involve a significant increase in the probability or consequences of an accident previously evaluated?

Response: No.

The proposed changes modify Technical Specification (TS) Surveillance Requirement (SR) 3.4.3.2, SR 3.5.1.10, and SR 3.6.1.6.1 to provide an alternative means for testing the main steam line relief valves, automatic depressurization system valves, and low set relief valves. Accidents are initiated by the malfunction of plant equipment, or the catastrophic failure of plant structures, systems, or components. The performance of relief valve testing is not a precursor to any accident previously evaluated and does not change the manner in which the valves are operated. The proposed testing requirements will not contribute to the failure of the relief valves nor any plant structure, system, or component. Exelon Generation Company, LLC (EGC) has determined that the proposed change in testing methodology provides an equivalent level assurance that the relief valves are capable of performing their intended safety functions. Thus, the proposed changes do not affect the probability of an accident previously evaluated.

The performance of relief valve testing provides confidence that the relief valves are capable of depressurizing the reactor pressure vessel (RPV). This will protect the reactor vessel from overpressurization and allowing the combination of the Low Pressure Coolant Injection and Core Spray systems to inject into the RPV as designed. The low set relief logic causes two low set relief valves to be opened at a lower pressure than the relief mode pressure setpoints and causes the low set relief valves to stay open longer, such that reopening of more than one valve is prevented on subsequent actuations. Thus, the low set relief function prevents excessive short duration relief valve cycles with valve actuation at the relief setpoint, which avoids induced thrust loads on the relief valve discharge line for subsequent actuations of the relief valve. The proposed changes do not affect any function related to the safety mode of the dual function safety/relief valves. The proposed changes involve the manner in which the subject valves are tested, and have no affect [sic] on the types or amounts of radiation released or the predicted offsite doses in the event of an accident. The proposed testing requirements are sufficient to provide confidence that the relief valves are capable of performing their intended safety functions. In addition, a stuck open relief valve accident is analyzed in the QCNPS Updated Final Safety Analysis Report. Since the proposed testing requirements do not alter theassumptions for the stuck open relief valve accident, the radiological consequences of any accident previously evaluated are not increased.

Therefore, the proposed change does not involve a significant increase in the probability or consequences of an accident previously evaluated.

2. Does the proposed change create the possibility of a new or different kind of accident from any accident previously evaluated?

Response: No.

The proposed changes do not affect the assumed accident performance of the main steam relief valves, nor any plant structure, system, or component previously evaluated. The proposed changes do not install any new equipment, and installed equipment is not being operated in a new or different manner. The proposed change in test methodology will ensure that the valves remain capable of performing their safety functions due to meeting the testing requirements of the American Society of Mechanical Engineers Boiler and Pressure Vessel Code, with the exception of opening the valve following installation or maintenance for which a relief request has been submitted, proposing an acceptable alternative. No setpoints are being changed which would alter the dynamic response of plant equipment. Accordingly, no new failure modes are introduced.

Therefore, the proposed change does not create the possibility of a new or different kind of accident from any previously evaluated.

3. Does the proposed change involve a significant reduction in a margin of safety?

Response: No.

The proposed changes will allow testing of the valve actuation electrical circuitry, including the solenoid, and mechanical actuation components, without causing the relief valve to open. The relief valves will be manually actuated prior to installation in the plant. Therefore, all modes of relief valve operation will be tested prior to entering the mode of operation requiring the valves to perform their safety functions. The proposed changes do not affect the valve setpoint or the operational criteria that directs the relief valves to be manually opened during plant transients. There are no changes proposed which alter the setpoints at which protective actions are initiated, and there is no change to the operability requirements for equipment assumed to operate for accident mitigation.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By June 12, 2003, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714, which is available at the Commission's Public Document Room, located at One White Flint North, 11555 Rockville Pike (first floor), Rockville, Maryland, and available electronically on the Internet at the NRC Web site http://www.nrc.gov/reading-rm/doc-collections/cfr/. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) the nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, Public File Area O1 F21,11555 Rockville Pike (first floor), Rockville, Maryland, by the above date. Because of continuing disruptions in delivery of mail to United States Government offices, it is requested that petitions for leave to intervene and requests for hearing be transmitted to the Secretary of the Commission either by means of facsimile transmission to 301-415-1101 or by e-mail to hearingdocket@nrc.gov. A copy of the request for hearing and petition for leave to intervene should also be sent to the Office of the General Counsel, U.S. Nuclear Regulatory Commission, Washington, DC 20555-0001, and because of continuing disruptions in delivery of mail to United States Government offices, it is requested that copies be transmitted either by means of facsimile transmission to 301-415-3725 or by e-mail to OGCMailCenter@nrc.gov. A copy of the request for hearing and petition for leave to intervene should also be sent to Mr. Edward J. Cullen, Deputy General Counsel, Exelon BSC—Legal, 2301 Market Street, Philadelphia, PA 19101, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated May 1, 2003, as supplemented May 2, 2003, which is available for public inspection at the Commission's Public Document Room (PDR), located at One White Flint North, Public File Area O1 F21, 11555 Rockville Pike (first floor), Rockville, Maryland. Publicly available records will be accessible electronically from the Agencywide Documents Access and Management System's (ADAMS) Public Electronic Reading Room on the Internet at the NRC Web site http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 6th day of May, 2003.
For the Nuclear Regulatory Commission.
Carl F. Lyon,
Project Manager, Section 2, Project Directorate III, Division of Licensing Project Management, Office of Nuclear Reactor Regulation.

[FR Doc. 03-11841 Filed 5-12-03; 8:45 am]

BILLING CODE 7590-01-P